DEPARTMENT OF THE INTERIOR

Bureau of Land Management

[ES-960-1420-BJ-TRST] ES-053597, Group No. 161, Wisconsin

Eastern States: Filing of Plat of Survey

AGENCY: Bureau of Land Management, Interior.

ACTION: Notice of Filing of Plat of Survey; Wisconsin.

SUMMARY: The Bureau of Land Management (BLM) will file the plat of survey of the lands described below in the BLM-Eastern States, Springfield, Virginia, 30 calendar days from the date of publication in the Federal Register.

FOR FURTHER INFORMATION CONTACT: Bureau of Land Management, 7450 Boston Boulevard, Springfield, Virginia 22153. Attn: Cadastral Survey.

SUPPLEMENTARY INFORMATION: This survey was requested by the Bureau of Indian Affairs.

The lands we surveyed are:

Fourth Principal Meridian, Wisconsin

T. 40 N., R. 6 W.

The plat of survey represents the dependent resurvey of the Fourth Standard Parallel North in Range 6 West, a portion of the Fourth Standard Parallel North in Range 7 West, a portion of the south and west boundaries, a portion of the subdivisional lines; and the subdivision of certain sections, the reestablishment of a portion of the record meander line and a survey of a portion of the present shore line of James Lake, and the apportionment of the shore line frontage to the original lots 2 and 3 in section 20, Township 40 North, Range 6 West, Fourth Principal Meridian, Wisconsin, and was accepted September 29, 2005. We will place a copy of the plat we described in the open files. It will be available to the public as a matter of information.

If BLM receives a protest against this survey, as shown on the plat, prior to the date of the official filing, we will stay the filing pending our consideration of the protest. We will not officially file the plat until the day after we have accepted or dismissed all protests and they have become final, including decisions on appeals.

Dated: September 29, 2005.
Stephen D. Douglas,
Chief Cadastral Surveyor.

[FR Doc. 05-20052 Filed 10-5-05; 8:45 am]

BILLING CODE 4310-GJ-P